DEPARTMENT OF ENERGY

Federal Energy Regulatory Commission

Notice of Filings

April 20, 2006.

Take notice that the Commission received the following electric rate filings

Docket Numbers: ER03-44-004.

Applicants: BOC Energy Services, Inc.

Description: BOC Energy Services Inc submits its petition for acceptance of its triennial market power analysis and market-based rate compliance filings.

Filed Date: 04/12/2006.

Accession Number: 20060419-0062.

Comment Date: 5 p.m. eastern time on Wednesday, May 3, 2006.

Docket Numbers: ER05-1076-003; ER05-1082-000; ER05-1082-003

Applicants: Carolina Power & Light Company; Progress Energy Carolinas, Inc.

Description: Carolina Power & Light Co dba Progress Energy Carolinas, Inc notifies FERC that they have completed the refunds required by Commission's 3/21/06 order.

Filed Date: 04/13/2006.

Accession Number: 20060419-0056.

Comment Date: 5 p.m. eastern time on Thursday, May 4, 2006.

Docket Numbers: ER06-553-001.

Applicants: American Electric Power Service Company.

Description: American Electric Power Service Co as agent for Indiana Michigan Power Co submits its compliance filing pursuant to the Commission's 3/28/06 order.

Filed Date: 04/13/2006.

Accession Number: 20060419-0055.

Comment Date: 5 p.m. eastern time on Thursday, May 4, 2006.

Docket Numbers: ER06-675-001.

Applicants: Louisville Gas & Electric Company.

Description: LG&E Energy LLC submits a revised letter agreement with East Kentucky Power Cooperative.

Filed Date: 04/10/2006.

Accession Number: 20060418-0353.

Comment Date: 5 p.m. eastern time on Monday, May 1, 2006.

Docket Numbers: ER06-840-000.

Applicants: Conectiv Energy Supply, Inc.

Description: Conectiv Energy Supply, Inc submits its request for authorization to make wholesale power sales to Potomac Electric Power Co.

Filed Date: 04/06/2006.

Accession Number: 20060419-0003.

Comment Date: 5 p.m. eastern time on Thursday, April 27, 2006.

Docket Numbers: ER06-856-000.

Applicants: Tucson Electric Power Company.

Description: Tucson Electric Power Co submits on behalf of the members of the Southwest Reserve Sharing Group an amendment to Exhibit A & Exhibit B of the SRSG Participation Agreement.

Filed Date: 04/13/2006.

Accession Number: 20060419-0044.

Comment Date: 5 p.m. eastern time on Thursday, May 04, 2006.

Docket Numbers: ER06-857-000.

Applicants: Energy Resource Management Corp.

Description: Energy Resources Management Corp submits a petition for acceptance of Initial Rate Schedule FERC 1, waivers and blanket authority.

Filed Date: 04/13/2006.

Accession Number: 20060419-0045.

Comment Date: 5 p.m. eastern time on Thursday, May 4, 2006.

Docket Numbers: ER06-858-000.

Applicants: Southern California Edison Company.

Description: Southern California Edison Co submits its Sunkist Wholesale Distribution Load Interconnection Facilities Agreement with the City of Corona, California.

Filed Date: 04/13/2006.

Accession Number: 20060419-0057.

Comment Date: 5 p.m. eastern time on Thursday, May 4, 2006.

Docket Numbers: ER06-859-000.

Applicants: California Independent System Operator Corporation.

Description: California Independent System Operator Corp submits an informational filing pursuant to Article IX, Section B of the 5/28/99 Stipulation and Agreement approved on 5/28/99.

Filed Date: 04/13/2006.

Accession Number: 20060419-0068.

Comment Date: 5 p.m. eastern time on Thursday, May 4, 2006.

Docket Numbers: ER06-860-000.

Applicants: Thoroughbred Generating Company.

Description: Thoroughbred Generating Co submits a notice of cancellation of its market-based rate tariff, Original Volume No. 1.

Filed Date: 04/13/2006.

Accession Number: 20060419-0058.

Comment Date: 5 p.m. eastern time on Thursday, May 4, 2006.

Docket Numbers: ER06-861-000.

Applicants: Deseret Generation & Transmission Co-operative, Inc.

Description: Deseret Generation & Transmission Co-operative, Inc submits an amendment to its currently-effective market-based rate tariff identified as FERC Electric Tariff, First Revised Volume 3 etc, effective 6/1/06.

Filed Date: 04/12/2006.

Accession Number: 20060419-0059.

Comment Date: 5 p.m. eastern time on Wednesday, May 3, 2006.

Docket Numbers: ER06-862-000.

Applicants: American Electric Power Service Company.

Description: Ohio Power Co et al submit their first version to the Interconnection Agreement with West Penn Power & Monongahela Power Co.

Filed Date: 04/12/2006.

Accession Number: 20060419-0060.

Comment Date: 5 p.m. eastern time on Wednesday, May 3, 2006.

Docket Numbers: ER06-863-000.

Applicants: PJM Interconnection, LLC.

Description: PJM Interconnection, LLC submits an unexecuted amended Network Integration Transmission Service Agreement with American Electric Power Co, effective 3/13/06.

Filed Date: 04/12/2006.

Accession Number: 20060419-0061.

Comment Date: 5 p.m. eastern time on Wednesday, May 3, 2006.

Docket Numbers: ER06-865-000; ER06-315-002.

Applicants: American Electric Power Company.

Description: American Electric Power Service Corp, agent for its affiliates Ohio Power Co et al requests acceptance of its third revised Interconnection and Local Delivery Agreement made pursuant to AEP companies' OATT etc.

Filed Date: 04/10/2006.

Accession Number: 20060414-0307.

Comment Date: 5 p.m. eastern time on Monday, May 1, 2006.

Docket Numbers: ER96-1085-008: ER96-1085-010; EL05-122-000.

Applicants: South Carolina Electric & Gas Company.

Description: South Carolina Electric & Gas Co submits a revised version of its Negotiated Market Sales Tariff, Fifth Revised Volume No. 2.

Filed Date: 04/12/2006.

Accession Number: 20060419-0053.

Comment Date: 5 p.m. eastern time on Wednesday, May 3, 2006.

Docket Numbers: ER96-1947-018.

Applicants: LS Power Marketing, LLC.

Description: LSPM submits its fourth revised market-based rate tariff and corrects an inadvertent omission in Section 6 of its tariff.

Filed Date: 04/14/2006.

Accession Number: 20060417-0330.

Comment Date: 5 p.m. eastern time on Friday, May 5, 2006.

Docket Numbers: ER97-4281-015; ER99-2161-006; ER99-3000-005; ER02-1572-003; ER02-1571-003; ER00-2810-004; ER99-4359-003; ER99-4358-003; ER99-2168-006; ER99-2162-006; ER00-2807-004; ER00-2809-004; ER00-1259-005; ER99-4355-003; ER99-4356-003; ER01-1558-003; ER00-3160-005; ER99-4357-003; ER00-2313-005; ER02-2032-003; ER02-1396-003; ER02-1412-003; ER00-3718-004; ER99-3637-004; ER99-1712-006; ER00-2808-004

Applicants: NRG Power Marketing, Inc.; Arthur Kill Power LLC; Astoria Gas Turbines Power LLC; Bayou Cove Peaking Power LLC; Big Cajun I Peaking Power LLC; Conemaugh Power LLC; Connecticut Jet power LLC; Devon Power LLC; Dunkirk Power LLC; Huntley Power LLC; Indian River Power LLC; Keystone Power LLC; Louisiana Generating LLC; Middletown Power LLC; Montville Power LLC; NEO California Power LLC; NEO Freehold-Gen LLC, et al; Norwalk Power LLC; NRG Energy Center Paxton LLC; NRG New Jersey Energy Sales LLC; NRG Rockford LLC; NRG Rockford II LLC; NRG Sterlington Power LLC; Oswego Harbor Power LLC; Somerset Power LLC; Vienna Power LLC.

Description: NRG Energy, Inc submits updates to each of these tariffs incorporating the changes along with redline copies marking changes from the previously-filed versions under ER97-4281 et al.

Filed Date: 04/17/2006.

Accession Number: 20060418-0224.

Comment Date: 5 p.m. eastern time on Monday, May 8, 2006.

Docket Numbers: ER99-1115-010; ER99-1116-010; ER98-1127-010; ER98-1796-009.

Applicants: Cabrillo Power I LLC; Cabrillo Power II LLC; El Segundo Power, LLC; Long Beach Generation; NRG Energy, Inc.

Description: NRG Energy Inc submits updates to each of the WCP Project Companies tariffs, effective 4/18/06.

Filed Date: 04/17/2006.

Accession Number: 20060418-0225.

Comment Date: 5 p.m. eastern time on Monday, May 8, 2006.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-6334 Filed 4-26-06; 8:45 am]

BILLING CODE 6717-01-P